DEPARTMENT OF DEFENSE

Office of the Secretary

[DOD-2006-OS-0066]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: The changes will be effective on May 22, 2006 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 696-4940.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on April 14, 2006, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 17, 2006.
L.M. Bynum,
OSD Federal Register Liaison Officer, Department of Defense.

DPR 34

System name:

Defense Civilian Personnel Data System.

System location:

Lockheed Martin Information Systems, 1401 Del Norte St., Denver, CO 80221; Testing and Operations, TETCO Tower, 1777 N.E. Loop 410, Suite 300, San Antonio, TX 78217.

A list of secondary (Component regional) locations may be obtained by written request to DoD Civilian Personnel Management Service (CPMS), 1400 Key Boulevard, Suite B200, Arlington, VA 22209-5144.

Categories of Individuals covered by the system:

Civilian employees and job applicants for civilian appropriated/non-appropriated fund (NAF) and National Guard (NG) civilian technician positions in the Department of Defense (DoD).

Categories of records in the system:

Job applications and employee resumes; position authorization and control information; position descriptions and performance elements; personnel data and projected suspense information for personnel actions; pay, benefits, and entitlements data; historical information on employees, including job experience, education, training, and training transaction data; performance plans, interims, appraisals, closeouts and ratings; professional accounting or other certifications or licenses; awards information and merit promotion information; separation and retirement data; and adverse and disciplinary action data. Personnel information including, but not limited to, employee e-mail address; employee phone numbers to include home, work, pager, fax and mobile; race and national origin; handicap code; and foreign language capability.

Authority for maintenance of the system:

5 U.S.C. 301, Department Regulations; 5 U.S.C. Chapters 11, 13, 29, 31, 33, 41, 43, 51, 53, 55, 61, 63, 72, 75, 83, 99; 5 U.S.C. 7201, Antidiscrimination Policy; 10 U.S.C. 136, Under Secretary of Defense for Personnel and Readiness; Executive Order 9830, Amending the Civil Service Rules and Providing for Federal Personnel Administration, as amended; Executive Order 9397 (SSN); and 29 CFR 1614.601, EEO Group Statistics.

Purpose(s):

To establish a system of records to provide Human Resource information and system support for the DoD civilian workforce worldwide.

routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Computer files stored in electronic database.

Retrievability:

Name and/or Social Security Number.

Safeguards:

Records are accessed and/or maintained in areas accessible only to authorized personnel who are properly screened, cleared, and trained. User names and passwords are employed to ensure access is limited to authorized personnel only. Employees are able to access and view only their records and update certain personal information to them via user name and password. Security systems and/or security guards protect buildings where records are accessed or maintained. A risk assessment has been performed and will be made available on request.

Retention and disposal:

Records are treated as permanent pending a determination by the National Archives and Records Agency of authority for disposition of the records.

System Managers and address:

Civilian Personnel Management Service, 1400 Key Boulevard, Suite B200, Arlington, VA 22209-5144.

Notification procedure:

Individuals seeking to determine whether information about themselves is contained in this system should address written inquiries to: Civilian Personnel Management Service, 1400 Key Boulevard, Suite B200, Arlington, VA 22209-5144.

Individual's Social Security Number must be included in the inquiry.

Record access procedures:

Individuals seeking access to information about themselves contained in this system, which they cannot view through the DCPDS HR Self Service, should address written requests to: Civilian Personnel Management Service, 1400 Key Boulevard, Suite B200, Arlington, VA 22209-5144.

Individual's Social Security Number must be included in the inquiry.

Contesting record procedures:

The OSD rules for accessing records, for contesting contents and appealing initial agency determinations are contained in OSD Administrative Instruction 81; 32 CFR part 311; or may be obtained from the system manager.

Record source categories:

Prospective employee generated resume, Standard Form 171, or Optional Form 612; employee or supervisor generated training requests; human resources generated records; and other employee or supervisor generated records.

Exemptions claimed for the system:

None.

[FR Doc. 06-3803 Filed 4-20-06; 8:45 am]

BILLING CODE 5001-06-M